DEPARTMENT OF HOUSING AND URBAN DEVELOPMENT

[Docket No. FR-5835-N-12]

60-Day Notice of Proposed Information Collection: FHA Lender Approval, Annual Renewal, Periodic Updates and Required Reports by FHA-Approved Lenders

AGENCY: Office of the Assistant Secretary for Housing/Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment. Elsewhere in today's edition of the Federal Register, HUD is publishing for public comment, for a period of 30 days, a notice that proposes further changes to form HUD-92900-A, which was subject to 60 days of public comment on May 15, 2015. The proposed changes to form HUD-92900-A and to the information collection which is the subject of this 60-day notice on FHA Lender Approval, Annual Renewal, Periodic Updates and Required Reports are intended to not only bring these documents up-to-date, but to improve clarity and HUD's enforcement capabilities.

DATES: Comments Due Date: November 2, 2015.

ADDRESSES: Interested persons are invited to submit comments regarding this proposal.

Comments should refer to the proposal by name and/or OMB Control Number and should be sent to: Colette Pollard, Reports Management Officer, QDAM, U.S. Department of Housing and Urban Development, 451 7th Street SW., Room 4176, Washington, DC 20410-5000; email Colette.Pollard@hud.gov or telephone 202-402-3400 (this is not a toll-free number) for copies of proposed forms or other information. Persons with hearing or speech impairments may access this number through TTY by calling the toll-free Federal Relay Service at (800) 877-8339.

FOR FURTHER INFORMATION CONTACT: John Higgins, Management Analyst, Office of Lender Activities and Program Compliance, Office of Single Family Housing, U.S. Department of Housing and Urban Development, 490 L'Enfant Plaza East SW., Room P3214, Washington, DC 20024-8000; email John.S.Higgins@hud.gov or telephone 202-402-6730 (this is not a toll-free number). Persons with hearing or speech impairments may access this number through TTY by calling the toll-free Federal Relay Service at (800) 877-8339.

Copies of available documents submitted to OMB may be obtained from Ms. Pollard. Stakeholders may also view the proposed changes to the certifications at: http://portal.hud.gov/hudportal/HUD?src=/program_offices/housing/sfh/SFH_policy_drafts.

SUPPLEMENTARY INFORMATION: This notice informs the public that HUD is seeking approval from OMB for the information collection described in section A.

A. Overview of Information Collection

Title of Information Collection: FHA Lender Approval, Annual Renewal, Periodic Updates and Required Reports by FHA-Approved Lenders.

OMB Approval Number: 2502-0005.

Type of Request: Revision.

Form Number: Online Application for Lender Approval (previously HUD-92001-A) and Annual Certification.

Description of the need for the information and proposed use: The Secretary of the Department of Housing and Urban Development is authorized to insure lenders and mortgagees against the risk of loss in connection with certain mortgages under titles I and II of the National Housing Act, 12 U.S.C. 1702 et seq. The Secretary is also authorized to prescribe eligibility requirements for approval of these lenders and mortgagees to participate in the Department's insured housing programs. See 12 U.S.C. 1702 et seq. and 42 U.S.C. 3535(d). Criteria for approval to become a title I and/or title II lender mortgagee are specified in 24 CFR 202, HUD Handbooks 4700.2 & 4060.1, pending HUD Handbook 4000.1 and various title I letters and Mortgagee Letters. Once approved, FHA lenders must provide additional information on an annual basis and within specified timeframes of certain events or business changes in order to maintain their FHA approval. Lenders submit this information electronically using either the Online Application for Lender Approval or the Lender Electronic Assessment Portal (LEAP), which is accessed via FHA Connection.

The information is used by FHA to verify that lenders meet all approval, renewal and compliance requirements at all times. It is also used to assist FHA in managing its financial risks and to protect consumers from lender noncompliance with FHA regulations.

Respondents: Regulatory or compliance.

Estimated Number of Respondents: 3,310.

Estimated Number of Responses: 13,255.

Frequency of Response: Annual/Periodic.

Average Hours per Response: 1 hour.

Total Estimated Burdens: 13,305 hours.

B. Solicitation of Public Comment

This notice is soliciting comments from members of the public and affected parties concerning the collection of information described in section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond, including through the use of appropriate automated collection techniques or other forms of information technology, e.g., permitting electronic submission of responses.

Revisions to the certification statements included in the Online Application for Lender Approval (previously HUD-92001-A) and the Annual Certification for FHA-approved lenders and mortgagees are detailed in documents available to the public as described above. These documents include revisions implemented on January 1, 2015 as well as new proposed revisions. This notice is soliciting comments on all revisions detailed in these documents.

The most significant proposed revision is the addition, where applicable, of a new certification statement in order to address comments received by HUD in response to the 60-Day Notice of Proposed Information Collection: Application for FHA Insured Mortgages (FR-5835-N-06) published on May 15, 2015, which described revisions to form HUD-92900-A. The certification statement proposed for addition to the Annual Certification for FHA-approved lenders and mortgagees would read as follows:

5. I certify that, to the best of my knowledge and after conducting a reasonable investigation, during the Certification Period I, my firm (i.e., the Mortgagee) and its principals (i.e., the Mortgagee's Corporate Officers): (a) Were not Debarred, Suspended, Proposed for Debarment, declared ineligible, or voluntarily excluded from covered transactions by any Federal department or agency; (b) have not, within a three-year period preceding this certification, been convicted of or had a civil judgment rendered against them for (i) commission of fraud or a criminal offense in connection with obtaining, attempting to obtain, or performing a public (Federal, State or local) transaction or contract under a public transaction; (ii) violation of Federal or State antitrust statutes or commission of embezzlement, theft, forgery, bribery, falsification or destruction of records, making false statements, or receiving stolen property; (c) were not indicted for or otherwise criminally or civilly charged by a governmental entity (Federal, State or local) with commission of any of the offenses enumerated in 5(b) of this certification; and (d) have not, within a three-year period preceding this certification, had one or more public transactions (Federal, State or local) terminated for cause or default, except for those occurrences, if any, the Mortgagee reported to HUD during the Certification Period and for which the Mortgagee received explicit clearance from HUD to continue with the certification process.

A similar certification statement would be added to the Online Application for Lender Approval with minor technical differences due to the format of the Online Application.

The new certification statement would require FHA-approved lenders and lender applicants for FHA approval to certify compliance with FHA requirements regarding the events or occurrences currently covered under form HUD-92900-A, item G, which HUD has proposed to remove, in part, from that form. HUD has determined that this statement should apply at the lender level rather than the loan level so that any related noncompliance is subject to the procedures of the Mortgagee Review Board as set forth in sections 202(c) and 536 of the National Housing Act (12 U.S.C. 1708(c) and 1735f-14), and parts 25 and 30 of title 24 of the Code of Federal Regulations (24 CFR parts 25 and 30).

Other revisions detailed in documents available to the public are technical in nature, including renumbering of statements, minor language changes for consistency between certification versions, and the removal of ambiguous terms that are captured in requirements or other well-defined terms found in HUD Handbook 4000.1, effective September 14, 2015.

HUD encourages interested parties to submit comment in response to these questions.

Authority: Section 3507 of the Paperwork Reduction Act of 1995, 44 U.S.C. chapter 35.

Dated: August 26, 2015.
Robert E. Mulderig,
Associate Deputy Assistant Secretary for Single Family Housing.

[FR Doc. 2015-21514 Filed 8-31-15; 8:45 am]

BILLING CODE 4210-67-P